DEPARTMENT OF ENERGY

Federal Energy Regulatory Commission

[Docket No. IC19-9-000]

Commission Information Collection Activities (FERC-725k); Comment Request

AGENCY: Federal Energy Regulatory Commission, Department of Energy.

ACTION: Comment request.

SUMMARY: In compliance with the requirements of the Paperwork Reduction Act of 1995, the Federal Energy Regulatory Commission (Commission or FERC) is submitting its information collection FERC-725K (Mandatory Reliability Standards for the SERC Region) to the Office of Management and Budget (OMB) for review of the information collection requirements. Any interested person may file comments directly with OMB and should address a copy of those comments to the Commission as explained below. The Commission previously published a Notice in the Federal Register on December 10, 2018 (83 FR 63494), requesting public comments. The Commission received no comments and is making this notation in its submittal to OMB.

DATES: Comments on the collection of information are due by April 18, 2019.

ADDRESSES: Comments filed with OMB, identified by the OMB Control No. 1902-0260, should be sent via email to the Office of Information and Regulatory Affairs: oira_submission@omb.gov. Attention: Federal Energy Regulatory Commission Desk Officer.

A copy of the comments should also be sent to the Commission, in Docket No. IC19-9-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: Mandatory Reliability Standards for the SERC Region.

OMB Control No.: 1902-0260.

Type of Request: Three-year extension of the FERC-725K information collection requirements with no changes to the current reporting requirements.

Abstract: Section 215 of the Federal Power Act (FPA) requires a Commission-certified Electric Reliability Organization (ERO) to develop mandatory and enforceable Reliability Standards, which are subject to Commission review and approval. Once approved, the Reliability Standards may be enforced by NERC, subject to Commission oversight, or by the Commission independently.

Reliability Standards that NERC proposes to the Commission may include Reliability Standards that are proposed by a Regional Entity to be effective in that region. In Order No. 672, the Commission noted that:

As a general matter, we will accept the following two types of regional differences, provided they are otherwise just, reasonable, not unduly discriminatory or preferential and in the public interest, as required under the statute: (1) A regional difference that is more stringent than the continent-wide Reliability Standard, including a regional difference that addresses matters that the continent-wide Reliability Standard does not; and (2) a regional Reliability Standard that is necessitated by a physical difference in the Bulk-Power System.

When NERC reviews a regional Reliability Standard that would be applicable on an interconnection-wide basis and that has been proposed by a Regional Entity organized on an interconnection-wide basis, NERC must rebuttably presume that the regional Reliability Standard is just, reasonable, not unduly discriminatory or preferential, and in the public interest. In turn, the Commission must give “due weight” to the technical expertise of NERC and of a Regional Entity organized on an interconnection-wide basis.

On April 19, 2007, the Commission accepted delegation agreements between NERC and each of the eight Regional Entities. In the order, the Commission accepted SERC as a Regional Entity organized on less than an interconnection-wide basis. As a Regional Entity, SERC oversees Bulk-Power System reliability within the SERC Region, which covers a geographic area of approximately 560,000 square miles in a sixteen-state area in the southeastern and central United States (all of Missouri, Alabama, Tennessee, North Carolina, South Carolina, Georgia, Mississippi, and portions of Iowa, Illinois, Kentucky, Virginia, Oklahoma, Arkansas, Louisiana, Texas and Florida). The SERC Region is currently geographically divided into five subregions that are identified as Southeastern, Central, VACAR, Delta, and Gateway.

Type of Respondents: Entities registered with the North American Electric Reliability Corporation (within the SERC region).

Estimate of Annual Burden: ¹ The Commission estimates the annual reporting burden and cost for the information collection as:

¹ “Burden” is defined as the total time, effort, or financial resources expended by persons to generate, maintain, retain, or disclose or provide information to or for a Federal agency. For further explanation of what is included in the information collection burden, refer to 5 Code of Federal Regulations 1320.3.

FERC-725K—Mandatory Reliability Standards for the SERC Region
| Number of respondents | Annual number of responses per respondent | Total number of responses | Average burden hrs. & cost per response ² | Total annual burden hours & total annual cost | Cost per respondent ($)
| (1) | (2) | (1) * (2) = (3) | (4) | (3) * (4) = (5) | (5) ÷ (1)
PCs: Design and Document Automatic UFLS Program | ³ 21 | 1 | 21 | 8 hrs.; $535.20 | 168 hrs.; $11,239.20 | $535.20
PCs: Provide Documentation and Data to SERC | ³ 21 | 1 | 21 | 16 hrs.; $1,070.40 | 336 hrs.; $22,478.40 | 1,070.40
GOs: Provide Documentation and Data to SERC | ⁴ 104 | 1 | 104 | 16 hrs.; $1,070.40 | 1,664 hrs.; $111,321.60 | 1,070.40
GOs: Record Retention | ⁴ 104 | 1 | 104 | 4 hrs.; $267.60 | 416 hrs.; $27,830.40 | 267.60
Total |  |  | 125 |  | 2,584 hrs.; $172,869.60 | 2,943.60

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The estimated hourly cost (salary plus benefits) provided in this section is based on the salary figures (http://www.bls.gov/oes/current/naics2_22.htm) and benefits (http://www.bls.gov/news.release/ecec.nr0.htm) for May 2017 posted by the Bureau of Labor Statistics for the Utilities sector. The hourly estimates for salary plus benefits are $66.90/hour based on the Engineering career (Occupation Code: 17-2071).

³ Both figures for PC respondents are not to be totaled. They represent the same set of respondents.

⁴ Both figures for GO respondents are not to be totaled. They represent the same set of respondents.

Dated: March 11, 2019.
Kimberly D. Bose,
Secretary.

[FR Doc. 2019-05047 Filed 3-18-19; 8:45 am]

BILLING CODE 6717-01-P